DEPARTMENT OF TRANSPORTATION

Federal Aviation Administration

[Proposed Policy Statement No. ANE-200X-33.3-X]

Policy for Repair and Alteration of Rotating Turbine Engine Life Limited Parts

AGENCY: Federal Aviation Administration, DOT.

ACTION: Notice of availability for proposed policy statement; request for comments.

SUMMARY: The Federal Aviation Administration (FAA) announces the availability of proposed policy for the repair and alteration of rotating turbine engine-life limited parts (RTE-LLPs). This proposed policy establishes that the FAA will treat all repairs and alterations of RTE-LLPs as major repairs and major alterations. We are also proposing that all RTE-LLP repair and alteration data must include a methodology to assess the life of the repaired or altered part and the continued operational safety of the repaired product. This proposed policy provides guidance for: (1) Technical substantiation for repair or alteration of RTE-LLPs; and (2) Aircraft Certification Offices (ACOs) and Designated Engineering Representatives to evaluate and approve repair and alteration data.

DATES: Comments must be received by November 14, 2005.

ADDRESSES: Send all comments on the proposed policy to the individual identified under FOR FURTHER INFORMATION CONTACT.

FOR FURTHER INFORMATION CONTACT: Karen M. Grant, FAA, Engine and Propeller Standards Staff, ANE-110, 12 New England Executive Park, Burlington, MA 01803; e-mail: karen.m.grant@faa.gov; telephone (781) 238-7119; fax: (781) 238-7199.

SUPPLEMENTARY INFORMATION:

Comments Invited: The proposed policy is available on the Internet at the following address: http://www.faa.gov/aircraft/draft_docs/. If you do not have access to the Internet, you may request a copy by contacting the individual listed under FOR FURTHER INFORMATION CONTACT. The FAA invites interested parties to comment on the proposed policy. Comments should identify the subject of the proposed policy and be submitted to the individual identified under FOR FURTHER INFORMATION CONTACT. The FAA will consider all comments received by the closing date before issuing the final policy.

We will file in the docket all comments received, as well as a report summarizing each substantive public contact with FAA personnel concerning this proposed policy. The docket is available for public inspection before and after the comment date. If you wish to review the docket in person, go to the above address between 9 a.m. and 5 p.m., Monday through Friday, except Federal holidays.

Background: During the past year, we reviewed the technical data for numerous RTE-LLP repairs. We observed deficiencies in the data for many of these repairs. We also noted that may repairs were improperly assessed as minor and were not properly coordinated with the appropriate ACOs. This proposed policy would provide guidance on the coordination and the technical data needed for RTE-LLP repairs and alterations.

(Authority: 49 U.S.C. 106(g), 40113, 44701-44702, 44704).

Issued in Burlington, Massachusetts, on October 3, 2005.
Francis A. Favara,
Acting Manager, Engine and Propeller Directorate, Aircraft Certification Service.

[FR Doc. 05-20457 Filed 10-12-05; 8:45 am]

BILLING CODE 4910-13-M